DEPARTMENT OF COMMERCE

International Trade Administration

[A-570-847]

Persulfates from the People's Republic of China: Extension of Time Limit for Final Results in Antidumping Duty Administrative Review

AGENCY: Import Administration, International Trade Administration, Department of Commerce.

ACTION: Extension of Time Limit for Final Results of Antidumping Duty Admininistrative Review.

EFFECTIVE DATE: December 4, 2002.

FOR FURTHER INFORMATION CONTACT: Michael Strollo at (202) 482-0629, Office of AD/CVD Enforcement, Import Administration, International Trade Administration, U.S. Department of Commerce, 14th Street and Constitution Avenue, N.W., Washington D.C. 20230.

SUPPLEMENTARY INFORMATION: On August 20, 2001, the Department published a notice of initiation of administrative review of the antidumping duty order on persulfates from the People's Republic of China. On August 6, 2002, the Department published a notice of preliminary results of antidumping duty administrative review and notice of partial rescission. The period of review is July 1, 2000 through June 30, 2001. The review covers one exporter of the subject merchandise to the United States.

In accordance with section 751(a)(3)(A) of the Tariff Act of 1930, as amended (the Act), the Department shall make a final determination in an administrative review of an antidumping duty order within 120 days after the day on which the preliminary results are published. However, if it is not practicable to complete the review within this time period, section 751(a)(3)(A) of the Act allows the Department to extend the time limit for the final determination of an administrative review to 180 days. Due to the complexity of the surrogate value issues raised in the case briefs, it is not practicable to complete this review within the time limit mandated by section 751(a)(3)(A) of the Act. Therefore, in accordance with section 751 (a)(3)(A) of the Act, we have fully extended the deadline for the final results of this administrative review until February 2, 2003.

Dated: November 27, 2002.
Susan Kuhbach,
Acting Deputy Assistant Secretary for Import Administration.

[FR Doc. 02-30768 Filed 12-3-02; 8:45 am]

BILLING CODE 3510-DS-S